COMMISSION ON CIVIL RIGHTS

Agenda and Notice of Public Meeting of the Rhode Island Advisory Committee

AGENCY: Commission on Civil Rights.

ACTION: Announcement of meeting.

SUMMARY: Notice is hereby given, pursuant to the provisions of the rules and regulations of the U.S. Commission on Civil Rights (Commission), and the Federal Advisory Committee Act (FACA), that a planning meeting of the Rhode Island State Advisory Committee to the Commission will convene by conference call, on Tuesday, November 17, 2020 at 12 p.m. (ET). The purpose of the meeting is to discuss the Committee's project on licensing for formerly incarcerated individuals.

DATES: Tuesday, November 17, 2020 at 12 p.m. (ET).

Conference Call-In Information: 1-800-437-2398; Conference ID: 6978023.

FOR FURTHER INFORMATION CONTACT: Mallory Trachtenberg at mtrachtenberg@usccr.gov or by phone at (202) 809-9618.

SUPPLEMENTARY INFORMATION: This meeting is available to the public through the telephone number and conference ID listed above. Callers can expect to incur charges for calls they initiate over wireless lines, and the Commission will not refund any incurred charges.

Individuals who are deaf, deafblind and hard of hearing may also follow the proceedings by first calling the Federal Relay Service at 1-800-877-8339 and providing the Federal Relay Service operator with the conference call-in numbers: 1-800-437-2398; Conference ID: 6978023.

Members of the public are entitled to make comments during the open period at the end of the meeting. Members of the public may also submit written comments; the comments must be received in the Regional Programs Unit within 30 days following the respective meeting. Written comments may be emailed to Mallory Trachtenberg at mtrachtenberg@usccr.gov. Persons who desire additional information may contact the Regional Programs Unit at (202) 809-9618. Records and documents discussed during the meeting will be available for public viewing as they become available at www.facadatabase.gov. Persons interested in the work of this advisory committee are advised to go to the Commission's website, www.usccr.gov, or to contact the Midwestern Regional Programs Office at the above phone number or email address.

Agenda: Tuesday, November 17, 2020 at 12 p.m. (ET)

I. Welcome and Roll Call

II. Announcements and Updates

III. Approval of Minutes from the Last Meeting

IV. Discussion: Licensing for Formerly Incarcerated Individuals

V. Next Steps

VI. Public Comment

VII. Adjournment

Dated: October 5, 2020.
David Mussatt,
Supervisory Chief, Regional Programs Unit.

[FR Doc. 2020-22372 Filed 10-8-20; 8:45 am]

BILLING CODE P